DEPARTMENT OF THE INTERIOR

Bureau of Land Management

[NV-930-1430-ET; NVN-80465; 5-08807]

Notice of Proposed Withdrawal and Opportunity for Public Meeting; Nevada

AGENCY: Bureau of Land Management, Interior.

ACTION: Notice.

SUMMARY: The Secretary of the Interior proposes to withdraw 3,009.11 acres of public land in Humboldt County, Nevada, to protect the Winnemucca Municipal Watershed and the Water Canyon Recreation Area. To the extent specified below, this notice segregates from surface entry and mining for up to 2 years, the aforementioned land.

DATES: Comments and requests for a public meeting must be received by January 17, 2006.

ADDRESSES: Comments and meeting requests should be sent to the Nevada State Director, BLM, P.O. Box 12000, Reno, Nevada 89520-0006.

FOR FURTHER INFORMATION CONTACT: Dennis J. Samuelson, BLM Nevada State Office, 775-861-6532.

SUPPLEMENTARY INFORMATION: The applicant is the Bureau of Land Management (BLM) at the address stated above. The petition/application requests the Secretary of the Interior to withdraw, for a period of 20 years and subject to valid existing rights, the following described public land from settlement, sale, location or entry under the general land laws, including mining laws, but not the mineral leasing laws:

Mount Diablo Meridian

T. 35 N., R. 38 E.,

sec. 2, lot 7, S½SE¼ and SE¼ SW¼;

secs. 11 and 12;

sec. 13, lots 1 and 2, W½NE¼, and NW¼;

sec. 14, N½.

T. 35 N., R. 39 E.,

sec. 18;

sec. 20, W½.

The area described contains 3,009.11 acres in Humboldt County.

The BLM petition/application has been approved by the Assistant Secretary, Land and Minerals Management. Therefore, it constitutes a withdrawal proposal of the Secretary of the Interior (43 CFR 2310.1-3(e)).

The use of a right-of-way, interagency agreement, or cooperative agreement would not adequately constrain non-discretionary uses that could irrevocably affect adversely the integrity of the municipal watershed and recreation area.

There are no suitable alternative sites, since the lands described contain the resources that need protection.

No water rights will be needed to fulfill the purpose of the withdrawal.

Possible mineral deposits present in the above described land areas include some locatable and salable minerals. No critical or strategic minerals, as defined by the Secretary of the Interior, are present in these areas.

The purpose of the proposed withdrawal is protection of the municipal watershed for the City of Winnemucca and a developed recreation area.

For a period of 90 days from the date of publication of this notice, all persons who wish to submit comments, suggestions, or objections in connection with the proposed withdrawal may present their views in writing to the BLM Nevada State Director.

Comments including names and street addresses of respondents, will be available for public review at the Winnemucca Field Office, 5100 East Winnemucca Boulevard, Winnemucca, Nevada, during regular business hours, 7:30 a.m. to 4:30 p.m., Monday through Friday, except holidays. Individual respondents may request confidentiality. If you wish to withhold your name or address from public review or from disclosure under the Freedom of Information Act, you must state this prominently at the beginning of your comments. Such requests will be honored to the extent allowed by the law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request no later than January 17, 2006. Upon determination by the authorized officer that a public meeting will be held, a notice of the time, place, and date will be published in the Federal Register and a local newspaper at least 30 days before the scheduled date of the meeting.

This withdrawal proposal will be processed in accordance with the regulations set forth in 43 CFR 2300.

For a period of 2 years from the date of publication of this notice in the Federal Register, the land will be segregated as specified above unless the application is denied or cancelled or the withdrawal is approved prior to that date.

Licenses, permits, cooperative agreements, or discretionary land use authorizations of a temporary nature which will not significantly impact the values to be protected by the withdrawal may be allowed with the approval of the authorized officer of the BLM during the segregative period.

(Authority: 43 CFR 2310.3-1(a)).

Dated: October 4, 2005.
Margaret L. Jensen,
Deputy State Director, Natural Resources, Lands, and Planning.

[FR Doc. 05-20683 Filed 10-14-05; 8:45 am]

BILLING CODE 4310-HC-P